DEPARTMENT OF LABOR

Wage and Hour Division

29 CFR Part 825

The Family and Medical Leave Act of 1993, Effectiveness of Information Collection Requirements

AGENCY: Department of Labor, Employment Standards Administration, Wage and Hour Division.

ACTION: OMB approval of information collection requirements.

SUMMARY: On December 14, 2008, the Office of Management and Budget (OMB) approved under the Paperwork Reduction Act (PRA) the Department of Labor's information collection request for requirements regarding Family and Medical Leave Act regulations, as published in the Federal Register on November 17, 2008. The PRA requires this notice to set forth the effectiveness of information collection requirements contained in a final rule.

DATES: The final rule published in the Federal Register on November 17, 2008 (73 FR 67934) has been approved by OMB and is effective January 16, 2009. The current expiration date for OMB authorization for this information collection is December 31, 2011.

ADDRESSES: Written comments regarding the burden-hour estimates or other aspects of the information collection requirements contained in 29 CFR part 825 may be submitted to: Administrator, Wage and Hour Division, Room S3502, 200 Constitution Avenue, NW., Washington DC 20210.

FOR FURTHER INFORMATION CONTACT: Richard M. Brennan, Director, Division of Interpretations and Regulatory Analysis, Wage and Hour Division, Employment Standards Administration, U.S. Department of Labor, Room S-3506, 200 Constitution Avenue, NW., Washington, DC 20210; telephone: (202) 693-0051 (this is not a toll-free number).

Questions of interpretation and/or enforcement of regulations referenced in this notice may be directed to the nearest Wage and Hour Division (WHD) District Office. Locate the nearest office by calling the WHD toll-free help line at (866) 4US-WAGE ((866) 487-9243) between 8 a.m. and 5 p.m. in your local time zone, or log onto the WHD's Web site for a nationwide listing of WHD District and Area Offices at: http://www.dol.gov/esa/whd/america2.htm.

This notice is available through the printed Federal Register and electronically via the http://www.gpoaccess.gov/fr/index.html Web site.

Copies of this notice may be obtained in alternative formats (Large Print, Braille, Audio Tape or Disc), upon request, by calling (202) 693-0023 (not a toll-free number). TTY/TDD callers may dial toll-free (877) 889-5627 to obtain information or request materials in alternative formats.

SUPPLEMENTARY INFORMATION: The Office of Management and Budget (OMB) has approved under the PRA information collection requirements contained in recently revised final regulations under the Family and Medical Leave Act published by the Department of Labor in the Federal Register on November 17, 2008. See 73 FR 67934. The preamble to the new regulations stated an effective date of January 18, 2009; however, the OMB had not yet provided a PRA-required approval for the revised information collection requirements contained in the revised FMLA rules at the time of their publication. 44 U.S.C. 3507(a)(2). An agency may not conduct an information collection unless it has a currently valid OMB approval; therefore, in accordance with the PRA, the effective date of the information collection requirements in the revised regulations was delayed until the OMB approved them under the PRA. 44 U.S.C. 3506(c)(1)(B)(iii)(V). On December 14, 2008, the OMB approved the Department's information collection request under Control Number 1215-0181; thus, giving effect to the requirements, as announced and published in the Federal Register on November 17, 2008, under the PRA. The current expiration date for OMB authorization for this information collection is December 31, 2011.

Dated: January 9, 2009.
Victoria A. Lipnic,
Assistant Secretary, Employment Standards Administration.
Alexander J. Passantino,
Acting Administrator, Wage and Hour Division.

[FR Doc. E9-674 Filed 1-15-09; 8:45 am]

BILLING CODE 4510-27-P